DEPARTMENT OF COMMERCE

Foreign-Trade Zones Board

[Docket 59-2011]

Proposed Foreign-Trade Zone—West Tennessee Area Under Alternative Site Framework; Application Filed

An application has been submitted to the Foreign-Trade Zones Board (the Board) by the Northwest Tennessee Regional Port Authority to establish a general-purpose foreign-trade zone at sites in Dyer, Gibson, Haywood, Lake, Lauderdale, Madison, Obion and Tipton Counties, Tennessee, adjacent to the Memphis Customs and Border Protection (CBP) port of entry, under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on September 29, 2011. The applicant is authorized to make the proposal under Tennessee Code Sections 7-85-101 thru 7-85-103.

The proposed zone would be the third general-purpose zone in Tennessee for the Memphis CBP port of entry and would be the fifth zone overall for the port of entry. The existing zones are as follows: FTZ 77, Memphis, Tennessee (Grantee: City of Memphis, Board Order 189, April 2, 1982); FTZ 223, Memphis, Tennessee (Grantee: Memphis International Trade Development Corporation, Board Order 904, July 2, 1997); FTZ 262, Southaven, Mississippi (Grantee: Northern Mississippi FTZ, Inc., Board Order 1353, October 1, 2004); and, FTZ 273, West Memphis, Arkansas (Grantee: City of West Memphis, Arkansas, Board Order 1551, April 15, 2008).

The applicant's proposed service area under the ASF would be Dyer, Gibson, Haywood, Lake, Lauderdale, Madison, Obion and Tipton Counties, Tennessee. If approved, the applicant would be able to serve sites throughout the service area based on companies' needs for FTZ designation. The proposed service area is adjacent to the Memphis CBP port of entry.

The proposed zone would initially include nine “magnet” sites in the service area: Proposed Site 1 (350 acres)—Cates Landing, One Cates Landing, State Highway 22 and Donaldson Road, Tiptonville (Lake County); Proposed Site 2 (279 acres)—Dyersburg Industrial Park, located at the intersection of Interstate 155 and U.S. Highway 412, Dyersburg (Dyer County); Proposed Site 3 (197 acres)—Gibson County Industrial Park, 2725 N. Central Avenue, Humboldt (Gibson County); Proposed Site 4 (474 acres)—Brownsville South Industrial Park, located at the intersection of Highway 70/79 and Windrow Road, Brownsville (Haywood County); Proposed Site 5 (1,720 acres)—Mega Site, located along Interstate 40 near Highways 70 and 79, Stanton (Haywood County); Proposed Site 6 (161 acres)—Walker Industrial Park, 374 Highland Street, Ripley (Lauderdale County); Proposed Site 7 (55 acres)—American Drive Business Center, 96 American Drive, Jackson (Madison County); Proposed Site 8 (235 acres)—Obion County Industrial Park, located at the intersection of Highway 21 and U.S. Highway 51, Union City (Obion County); and, Proposed Site 9 (415 acres)—Rialto Industrial Park, Highway 51 North, Covington (Tipton County). The ASF allows for the possible exemption of one magnet site from the “sunset” time limits that generally apply to sites under the ASF, and the applicant proposes that Site 1 be so exempted.

The application indicates a need for zone services in the West Tennessee area. Several firms have indicated an interest in using zone procedures for warehousing/distribution activities for a variety of products. Specific manufacturing approvals are not being sought at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is December 5, 2011. Rebuttal comments in response to material submitted during the foregoing period may be submitted during the subsequent 15-day period to December 19, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Camille Evans at Camille.Evans@trade.gov or (202) 482-2350.

Dated: September 29, 2011.
Andrew McGilvray,
Executive Secretary.

[FR Doc. 2011-25738 Filed 10-4-11; 8:45 am]

BILLING CODE P